DEPARTMENT OF LABOR

Occupational Safety and Health Administration

[Docket No. ICR-1218-0173(2001)]

Course Evaluation Form; Extension of the Office of Management of Budget's Approval of Information-Collection (Paperwork) Requirements

AGENCY: Occupational Safety and Health Administration (OSHA), Labor.

ACTION: Notice of an opportunity for public comment.

SUMMARY: OSHA solicits public comment concerning its request for an extension of the information-collection requirements contained in its Course Evaluation Form.

Request for Comment: The Agency has a particular interest in comments on the following issues:

• Whether the proposed information-collection requirements are necessary for the proper performance of the Agency's functions, including whether the information is useful;

• The accuracy of the Agency's estimate of the burden (time and costs) of the information-collection requirements, including the validity of the methodology and assumptions used;

• The quality, utility, and clarity of the information collected; and

• Ways to minimize the burden on employers who must comply; for example, by using automated or other technological information-collection and -transmission techniques.

DATES: The public must submit written comments to the office listed under ADDRESSES on or before July 23, 2001.

ADDRESSES: Submit written comments to the Docket Office, Docket No. ICR 1218-0173(2001), OSHA, U.S. Department of Labor, Room N-2625, 200 Constitution Avenue, NW., Washington, DC 20201; telephone: (202) 693-2350. Commenters may transmit written comments of 10 pages or less by facsimile to: (202) 693-1648.

FOR FURTHER INFORMATION CONTACT: Gail Butler, Division of Administration and Training Information, OSHA Office of Training and Education, 1555 Times Drive, Des Plaines, Illinois 60018; telephone (not toll free): (847) 297-4810; e-mail: gail.butler@osha.gov or facsimile: (847) 297-4810. A copy of the Agency's Information-Collection Request (ICR) supporting the need for information-collection requirements specified in the Course Evaluation Form is available for inspection and copying in the Docket Office, or by requesting a mailed copy from Todd Owen at (202) 693-2444. For electronic copies of this ICR, contact OSHA on the Internet at http://www.osha.gov/.

SUPPLEMENTARY INFORMATION:

I. Background

The Department of Labor, as part of it containing effect to reduce paperwork and respondent (e.g., employer) burden, conducts a preclearance consultation program to provide the general public and Federal agencies with an opportunity to comment on proposed and continuing information-collection requirements in accordance with the Paperwork Reduction Act of 1995 (44 U.S.C. 3506(c)(2)(A)). This program ensures that information is in the desired format, reporting burden (time and costs) is minimal, collection instruments are clearly understood, and OSHA's estimate of the information burden is correct.

Section 21 of the Occupational Safety and Health Act of 1970 (the “OSHA Act”) (see 29 U.S.C. 670) authorizes the Occupational Safety and Health Administration (“OSHA” or the “Agency” to conduct training and employee education. Paragraphs (a), (b), and (c) of Section 21 require, respectively, that the Agency: “(C)onduct, directly or by grants or contracts,(1) education programs to provide an adequate supply of qualified personnel to carry out the purposes of this Act, and(2) informational programs on the importance of and proper use of adequate safety and health equipment”; “(C)onduct, directly or by grants or contracts, short-term training of personnel engaged in work related to (their) responsibilities under the Act”' and “(1) provide for the establishment and supervision of programs for the education and training of employers and employees in the recognition, avoidance, and prevention of unsafe and unhealthful working conditions in employments covered by this Act, and (2) consult with and advise employers and employees, and organizations representing employers and employees as to effective means of preventing occupational injuries and illnesses.

As authorized by the appropriate provisions of section 21 of the Act, the OSHA Training Institute (the “Institute”) provides basic, intermediate, and advanced training and education in occupational safety and health for federal and state compliance officers, Agency professionals and technical-support personnel, employers, employees, organizations representing employees and employers, educators who develop curricula and teach occupational safety and health courses, and representatives of professional safety and health groups. This program includes the courses on occupational safety and health provided by the Institute at its national training facility in Des Plaines, Illinois. In addition to conducting courses at the OSHA Training Institute in Des Plaines, Illinois, the Institute is also administering a program whereby several institutions in various locations throughout the United States have been authorized as OSHA Training Institute Education Centers. These Education Centers conduct a specific number of OSHA courses that are geared for private sector and other Federal Agency personnel. The goal of the Education Center program is to expand the accessibility of high-quality OSHA training courses.

All students completing training courses at the Institute and the Education Centers are requested to complete the Course Evaluation Form (OSHA Form 49, 08-98 edition) on the last day of class. Students may be Federal, state, private sector, local or tribal government employees. The Course Evaluation Form contains ten close-ended questions. The form requests participant feedback on ten elements to assess communication and accomplishment of learning objectives, course content, training environment, relevance of topics to job, effectiveness of exercises, workshops, laboratories, field trips and audiovisuals, usefulness of course materials and handouts, and overall rating of course. The feedback provides an overall impression of the student's experience for the course. Students provide more detailed feedback in the narrative sections of the form. Course Evaluation Form student input provides a standardized tool for collecting quality data that has been used to determine program successes and shortcomings. This quality data has assisted the Training Institute in directing resources where they can do the most good. All Course Evaluation Forms are reviewed by the course chairperson, instructors, the Institute Director and the supervisor responsible for that course. Ratings provide baseline data from which to draw conclusions about the effectiveness and quality of the training courses and to assess the level of student satisfaction with the course. Evaluation data is used to determine which courses may need improvement. Problem areas are noted and the supervisor discusses them with the course chairperson. Courses needing further improvement are scheduled for a more comprehensive follow-up course evaluation with recommendations for improvement. Revised courses are closely monitored to determine if problem areas have been resolved.

II. Proposed Actions

OSHA proposes to extend Office of Management and Budget (OMB) approval of the collection-of-information (paperwork) requirements specified in Course Evaluation Form. The Agency will summarize the comments submitted in responses to this notice, and will include this summary in its request to OMB to extend the approval of these information-collection requirements.

Type of Review: Extension of currently approved information-collection requirements.

Title: Course Evaluation Form.

OMB Number: 1218-0173.

Affected Public: Individuals; business or other for-profit organizations; Federal government; State, Local, or Tribal governments.

Number of Respondents: 16,300.

Frequency: On occasion.

Total Responses: 16,300.

Average Time per Response: 10 minutes.

Estimated Total Burden Hours: 2,716 hours.

IV. Authority and Signature

R. Davis Layne, Acting Assistant Secretary of Labor for Occupational Safety and Health, directed the preparation of this notice. The authority for this notice is the Paperwork Reduction Act of 1995 (44 U.S.C. 3506) and the Secretary of Labor's Order No. 3-2000 (65 FR 50017).

Dated: Signed at Washington, DC on May 18, 2001.
R. Davis Layne,
Acting Assistant Secretary of Labor.

[FR Doc. 01-13043 Filed 5-22-01; 8:45 am]

BILLING CODE 4510-26-M